DEPARTMENT OF TRANSPORTATION

Federal Aviation Administration

Notice To Intend To Rule on Application 04-02-C-00-ACY To Impose and Use a Revenue From a Passenger Facility Charge (PFC) at Atlantic City International Airport, Egg Harbor Township, NJ; Correction

Correction: This is to advise that the number for our Notice to Intend to Rule on Application 04-02-C-00-ACY to Impose and Use a revenue from a Passenger Facility Charge (PFC) at Atlantic City International Airport, Egg Harbor Township, New Jersey, published in the Federal Register on March 19, 2004, should read 04-03-C-00-ACY.

All the other associated information published on that day remains unchanged, including the date for receiving comments on or before April 19, 2004.

If there are any questions regarding this correction, please contact Dan Vornea, Project Manager, New York Airports District Office, 600 Old Country Road, Suite 446, Garden City, NY 11530, telephone no. (516) 227-3812. The application may be reviewed in person at this same location.

Issued in Garden City, New York on March 25, 2004.
Philip Brito,
Manager, NYADO, Eastern Region.

[FR Doc. 04-7338 Filed 4-2-04; 8:45 am]

BILLING CODE 4910-13-M